NUCLEAR REGULATORY COMMISSION

[NRC-2012-0270]

Content Specifications and Shielding Evaluations for Type B Transportation Packages

AGENCY: Nuclear Regulatory Commission.

ACTION: Draft regulatory issue summary; request for public comment.

SUMMARY: The U.S. Nuclear Regulatory Commission (NRC or the Commission) is issuing for public comment Draft Regulatory Issue Summary (RIS) 2012-XX, “Content Specifications and Shielding Evaluations for Type B Transportation Packages.” This RIS clarifies the NRC's use of staff guidance in NUREG-1609, “Standard Review Plan for Transport Packages for Radioactive Material,” for the review of content specifications and shielding evaluations included in the Certificates of Compliance (CoC) and safety analysis reports (SARs) for Type B transportation packages.

DATES: Submit comments by December 28, 2012. Comments received after this date will be considered, if it is practical to do so, but the NRC staff is able to ensure consideration only for comments received on or before this date.

ADDRESSES: You may access information and comment submissions related to this document, which the NRC possesses and are publicly available, by searching on http://www.regulations.gov under Docket ID NRC-2012-0270. You may submit comments by the following methods (unless the document describes a different method for submitting comments on a specific subject):

• Federal Rulemaking Web site: Go to http://www.regulations.gov and search for Docket ID NRC-2012-0270. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Ms. Veronica Wilson, Office of Nuclear Material Safety and Safeguards, U.S. Nuclear Regulatory Commission, Washington, DC 20555-0001; telephone: 301-492-3278; email: Veronica.Wilson@nrc.gov.

SUPPLEMENTARY INFORMATION:

I. Accessing Information and Submitting Comments

A. Accessing Information

Please refer to Docket ID NRC-2012-0270 when contacting the NRC about the availability of information regarding this document. You may access information related to this document by any of the following methods:

• Federal Rulemaking Web Site: Go to http://www.regulations.gov and search for Docket ID NRC-2012-0270.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft RIS is available in ADAMS under Accession No. ML120190451. NUREG-1609 is available on the NRC's public Web site at http://www.nrc.gov/reading-rm/doc-collections/nuregs/staff/sr1609/final/index.html.

• NRC's PDR: You may examine and purchase copies of public documents at the NRC's PDR, Room O1-F21, One White Flint North, 11555 Rockville Pike, Rockville, Maryland 20852.

B. Submitting Comments

Please include Docket ID NRC-2012-0270 in the subject line of your comment submission, in order to ensure that the NRC is able to make your comment submission available to the public in this docket.

The NRC cautions you not to include identifying or contact information that that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The NRC issues RISs to provide guidance to applicants on the scope and detail of information that should be provided in certificate actions to facilitate staff review.

The NRC staff has developed draft RIS 2012-XX, “Content Specification and Shielding Evaluations for Type B Transportation Packages,” to clarify use of NRC staff guidance in NUREG-1609, for the review of content specifications and shielding evaluations included in the CoCs and SARs for Type B transportation packages.

Proposed Action

By this action, the NRC is requesting public comments on the draft RIS. This draft RIS clarifies the NRC's use of staff guidance in NUREG-1609, “Standard Review Plan for Transport Packages for Radioactive Material.” The NRC staff will make a final determination regarding issuance of the RIS after it considers any public comments received in response to this request.

Dated at Rockville, Maryland, this 31st day of October, 2012.
For the Nuclear Regulatory Commission.
Mark Lombard,
Director, Division of Spent Fuel Storage and Transportation, Office of Nuclear Material Safety and Safeguards.

[FR Doc. 2012-27187 Filed 11-9-12; 8:45 am]

BILLING CODE 7590-01-P